OVERSEAS PRIVATE INVESTMENT CORPORATION

Sunshine Act Meeting; Public Hearing

July 18, 2002.

Time and Date: 2 p.m., Thursday, July 18, 2002.

Place: Offices of the Corporation, Twelfth Floor Board Room, 1100 New York Avenue, NW., Washington, DC.

Status: OPIC's Sunshine Act notice of its public hearing was published in the Federal Register (Volume 67, Number 128, Page 44648) on July 3, 2002. OPIC will not be holding a Board of Directors meeting in July. Therefore, OPIC's public hearing in conjunction with OPIC's Board of Directors meeting scheduled for 2 PM on July 18, 2002 has been cancelled.

Contact Person for Information: Information on the hearing may be obtained from Connie M. Downs at (202) 336-8438, via facsimile at (202) 218-0136, or via e-mail at cdown@opic.gov.

Dated: July 11, 2002.
Connie M. Downs,
OPIC Corporate Secretary.

[FR Doc. 02-17807 Filed 7-11-02; 12:00 pm]

BILLING CODE 3210-01-M